DEPARTMENT OF ENERGY

10 CFR Part 431

[Docket No. EERE-2025-BT-STD-0015]

RIN 1904-AF85

Energy Conservation Program: Energy Conservation Standards for Automatic Commercial Ice Makers

AGENCY: Office of Energy Efficiency and Renewable Energy, Department of Energy (DOE).

ACTION: Notice of proposed rulemaking; request for comments.

SUMMARY: DOE is proposing to rescind the amended water use standards for automatic commercial ice makers (ACIMs). This will return the water use standards for ACIMs to the statutory baseline.

DATES: Comments must be received on or before July 15, 2025.

Meeting: DOE will hold a public meeting webinar on Thursday, May 29, 2025 from 1:00 p.m. to 4:00 p.m. See section III of this document, “Public Participation,” for registration information, participant instructions, and information about the capabilities available to webinar participants. DOE invites public input on its proposal.

ADDRESSES: Interested persons are encouraged to submit comments using the Federal eRulemaking Portal at www.regulations.gov under docket number EERE-2025-BT-STD-0015. Follow the instructions for submitting comments. Alternatively, interested persons may submit comments, identified by docket number EERE-2025-BT-STD-0015, by any of the following methods:

(1) Email: ApplianceStandardsQuestions@ee.doe.gov. Include the docket number EERE-2025-BT-STD-0015 and/or RIN 1904-AF85 in the subject line of the message. Submit electronic comments in WordPerfect, Microsoft Word, PDF, or ASCII file format, and avoid the use of special characters or any form of encryption.

(2) Postal Mail: Appliance and Equipment Standards Program, U.S. Department of Energy, Building Technologies Office, Mailstop EE-5B, 1000 Independence Avenue SW, Washington, DC 20585-0121. If possible, please submit all items on a compact disc (CD), in which case it is not necessary to include printed copies.

(3) Hand Delivery/Courier: Appliance and Equipment Standards Program, U.S. Department of Energy, Building Technologies Office, 1000 Independence Avenue SW, Washington, DC 20585-0121. Telephone: (202) 287- 1445. If possible, please submit all items on a CD, in which case it is not necessary to include printed copies.

No telefacsimiles (faxes) will be accepted. For detailed instructions on submitting comments and additional information on this process, see section III (Public Participation) of this document.

Docket: The docket for this proposed rulemaking, which includes Federal Register notices, comments, and other supporting documents and materials, is available for review at www.regulations.gov. All documents in the docket are listed in the www.regulations.gov index. However, not all documents listed in the index may be publicly available, such as information that is exempt from public disclosure.

The docket web page can be found at www.regulations.gov/docket/EERE-2025-BT-STD-0015. The docket web page contains instructions on how to access all documents, including public comments, in the docket, as well as a summary of the rulemaking. See section III of this document, “Public Participation,” for further information on how to submit comments through www.regulations.gov. In accordance with 5 U.S.C. 553(b)(4), a summary of this rule may be found at www.regulations.gov, under the docket number EERE-2025-BT-STD-0015.

FOR FURTHER INFORMATION CONTACT: Mr. David Taggart, U.S. Department of Energy, Office of the General Counsel, GC-1, 1000 Independence Avenue SW, Washington, DC 20585-0121. Telephone: (202) 586-5281. Email: DOEGeneralCounsel@hq.doe.gov.

For further information on how to submit a comment or review other public comments and the docket contact the Appliance and Equipment Standards Program staff at (202) 287-1445 or by email: ApplianceStandardsQuestions@ee.doe.gov.

SUPPLEMENTARY INFORMATION:

Table of Contents

I. General Discussion

II. Procedural Issues and Regulatory Review

A. Review Under Executive Orders 12866 and 13563

B. Review Under the Regulatory Flexibility Act

C. Review Under the Paperwork Reduction Act

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under the Treasury and General Government Appropriations Act, 2001

K. Review Under Executive Order 13211

L. Review Under the Information Quality Bulletin for Peer Review

M. Review Under Additional Executive Orders and Presidential Memoranda

III. Public Participation

A. Attendance

B. Procedures

C. Conduct of the Meeting

D. Submission of Comments

E. Issues on Which DOE Seeks Comments

IV. Approval of the Office of the Secretary

I. General Discussion

The Energy Policy and Conservation Act, Public Law 94-163, as amended (EPCA),¹ authorizes DOE to regulate the energy efficiency of a number of consumer products and certain industrial equipment. 42 U.S.C. 6291-6317. Title III, Part C ² of EPCA, established the Energy Conservation Program for Certain Industrial Equipment. 42 U.S.C. 6311-6317. This includes ACIM equipment, the subject of this proposed rulemaking. 42 U.S.C. 6311(1)(F).

¹ All references to EPCA in this document refer to the statute as amended through the Energy Act of 2020, Public Law 116-260 (Dec. 27, 2020), which reflect the last statutory amendments that impact Parts A and A-1 of EPCA.

² For editorial reasons, upon codification in the U.S. Code, Part C was redesignated Part A-1.

Pursuant to this authority, DOE is proposing to rescind the amended water conservation standards for ACIMs, which are codified at section 431.136 of title 10 of the Code of Federal Regulations (CFR). Congress required certain types of ACIMs—water-cooled ice-making head ACIMs and water-cooled self-contained ACIMs—to have maximum condenser water use in gallons per 100 pounds of ice using formulas of 200-0.022H (where H is the harvest rate in pounds per 24 hours) and 191-0.0315H (where H is the harvest rate in pounds per 24 hours). See 42 U.S.C. 6313(d)(1). DOE, by regulation, has set more stringent water use requirements, as certain types of batch water-cooled ice-making head and water-cooled self-contained ACIMs now have maximum condenser water use of 145 gallons per 100 pounds of ice and 112 gallons per 100 pounds of ice. 10 CFR 431.136. DOE also established new water conservation standards for certain types of continuous water-cooled ice-making head to have maximum condenser water use of 180-0.0198H (where H is the harvest rate in pounds per 24 hours) and 130.5 gallons per 100 pounds of ice, and continuous water-cooled self-contained ACIMs 153-0.0252H (where H is the harvest rate in pounds per 24 hours). Id.

DOE proposes to rescind the water factor requirements in their entirety and seeks comment on all aspects of that proposal. The rescission would return the water use requirements to the statutory standards in 42 U.S.C. 6313(d)(1). The Secretary has tentatively determined that the anti-backsliding provision in 42 U.S.C. 6295(o)(1), referenced for ACIMs through a cross-walk in 42 U.S.C. 6316(a), does not apply here, because section (o)(1) only applies to water use “in the case of showerheads, faucets, water closets, or urinals.”

Additionally, the Secretary has tentatively determined that DOE lacks authority to regulate the water use of ACIMs. Part A-1 of EPCA defines “energy conservation standard” as “(A) a performance standard that prescribes a minimum level of energy efficiency or a maximum quantity of energy use for a product; or (B) a design requirement for a product.” 42 U.S.C. 6311(18). The purpose of Part A-1 refers only to improve the efficiency of electric motors and pumps and certain other industrial equipment in order to conserve the energy resources of the Nation. Id. at section 6312(a). Conserving water resources is not a purpose of this part of EPCA. Therefore, when the statute directs DOE to issue a final rule for ACIMs to determine whether amending the applicable standards is technologically feasible and economically justified, that direction is only applicable to the energy conservation standards, not the water use standards. See id. at section 6313(d)(3).

Moreover, the Secretary is proposing a new policy to reduce regulatory burden wherever possible. Unless a regulatory standard is required by statute, the Secretary proposes eliminating that requirement. This new policy would support energy and water abundance, allowing Americans to produce and consume as much energy and water as they see fit.

DOE has tentatively determined that there is no reliance interest in the water use standards. DOE seeks comments on any reason to rescind or not rescind these regulations.

II. Procedural Issues and Regulatory Review

A. Review Under Executive Orders 12866

Executive Order (“E.O.”) 12866, “Regulatory Planning and Review,” requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public. For the reasons stated in the preamble, DOE has determined that this proposed regulatory action is consistent with these principles and the requirements of E.O. 12866.

B. Review Under Regulatory Flexibility Act

Under the Regulatory Flexibility Act (as amended by the Small Business Regulatory Enforcement Fairness Act (SBREFA) of 1996; 5 U.S.C. 601 et seq.), whenever a Federal agency is required to publish a notice of rulemaking for any proposed or final rule, it must prepare and make available for public comment a regulatory flexibility analysis that describes the effect of the rule on small entities (i.e., small businesses, small organizations, and small government jurisdictions).

DOE reviewed this proposed rule under the provisions of the Regulatory Flexibility Act and the policies and procedures published on February 19, 2003. This proposal eliminates amended water conservation standards. Therefore, DOE initially concludes that the impacts of the proposed rules would not have a “significant economic impact on a substantial number of small entities,” and that the preparation of an IRFA is not warranted. DOE will transmit this certification and supporting statement of factual basis to the Chief Counsel for Advocacy of the Small Business Administration for review under 5 U.S.C. 605(b).

C. Review Under the Paperwork Reduction Act

This proposed rulemaking imposes no new information or record-keeping requirements. Accordingly, OMB clearance is not required under the Paperwork Reduction Act. (44 U.S.C. 3501 et seq.)

D. Review Under the National Environmental Policy Act of 1969

DOE is analyzing this proposed action in accordance with the National Environmental Policy Act of 1969, as amended, (“NEPA”) and DOE's NEPA implementing regulations (10 CFR part 1021). DOE's regulations include categorical exclusions for certain rulemakings. See 10 CFR part 1021, subpart D, appendices A and B. DOE is considering the categorical exclusions potentially applicable to this proposed rule, such as B5.1, and welcomes comment on the potential application of categorical exclusion(s). DOE will complete its NEPA review before issuing the final rule.

E. Review Under Executive Order 13132

E.O. 13132, “Federalism,” 64 FR 43255 (August 10, 1999), imposes certain requirements on Federal agencies formulating and implementing policies or regulations that preempt State law or that have federalism implications. The Executive order requires agencies to examine the constitutional and statutory authority supporting any action that would limit the policymaking discretion of the States and to carefully assess the necessity for such actions. The Executive order also requires agencies to have an accountable process to ensure meaningful and timely input by State and local officials in the development of regulatory policies that have federalism implications. On March 14, 2000, DOE published a statement of policy describing the intergovernmental consultation process it will follow in the development of such regulations. 65 FR 13735. DOE has examined this proposed rule and has tentatively determined that it would not have a substantial direct effect on the States, on the relationship between the national government and the States, or on the distribution of power and responsibilities among the various levels of government. EPCA governs and prescribes Federal preemption of State regulations as to energy conservation for the products that are the subject of this proposed rule. States can petition DOE for exemption from such preemption to the extent, and based on criteria, set forth in EPCA. (42 U.S.C. 6316(a) and (b); 42 U.S.C. 6297) Therefore, no further action is required by E.O. 13132.

F. Review Under Executive Order 12988

With respect to the review of existing regulations and the promulgation of new regulations, section 3(a) of E.O. 12988, “Civil Justice Reform,” imposes on Federal agencies the general duty to adhere to the following requirements: (1) eliminate drafting errors and ambiguity, (2) write regulations to minimize litigation, (3) provide a clear legal standard for affected conduct rather than a general standard, and (4) promote simplification and burden reduction. 61 FR 4729 (Feb. 7, 1996). Regarding the review required by section 3(a), section 3(b) of E.O. 12988 specifically requires that Executive agencies make every reasonable effort to ensure that the regulation (1) clearly specifies the preemptive effect, if any, (2) clearly specifies any effect on existing Federal law or regulation, (3) provides a clear legal standard for affected conduct while promoting simplification and burden reduction, (4) specifies the retroactive effect, if any, (5) adequately defines key terms, and (6) addresses other important issues affecting clarity and general draftsmanship under any guidelines issued by the Attorney General. Section 3(c) of E.O. 12988 requires Executive agencies to review regulations in light of applicable standards in section 3(a) and section 3(b) to determine whether they are met or it is unreasonable to meet one or more of them. DOE has completed the required review and determined that, to the extent permitted by law, this proposed rule meets the relevant standards of E.O. 12988.

G. Review Under the Unfunded Mandates Reform Act of 1995

Title II of the Unfunded Mandates Reform Act of 1995 (“UMRA”) requires each Federal agency to assess the effects of Federal regulatory actions on State, local, and Tribal governments and the private sector. Public Law 104-4, sec. 201 (codified at 2 U.S.C. 1531). For a regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a “significant intergovernmental mandate,” and requires an agency plan for giving notice and opportunity for timely input to potentially affected small governments before establishing any requirements that might significantly or uniquely affect them. On March 18, 1997, DOE published a statement of policy on its process for intergovernmental consultation under UMRA. 62 FR 12820. DOE's policy statement is also available at www.energy.gov/sites/prod/files/gcprod/documents/umra_97.pdf.

DOE examined this proposed rule according to UMRA and its statement of policy and determined that the proposed rule does not contain a Federal intergovernmental mandate, nor is it expected to require expenditures of $100 million or more in any one year by State, local, and Tribal governments, in the aggregate, or by the private sector. As a result, the analytical requirements of UMRA do not apply.

H. Review Under the Treasury and General Government Appropriations Act, 1999

Section 654 of the Treasury and General Government Appropriations Act, 1999 (Pub. L. 105-277) requires Federal agencies to issue a Family Policymaking Assessment for any rule that may affect family well-being. This proposed rule would not have any impact on the autonomy or integrity of the family as an institution. Accordingly, DOE has concluded that it is not necessary to prepare a Family Policymaking Assessment.

I. Review Under Executive Order 12630

Pursuant to E.O. 12630, “Governmental Actions and Interference with Constitutionally Protected Property Rights,” 53 FR 8859 (March 18, 1988), DOE has determined that this proposed rule would not result in any takings that might require compensation under the Fifth Amendment to the U.S. Constitution.

J. Review Under the Treasury and General Government Appropriations Act, 2001

Section 515 of the Treasury and General Government Appropriations Act, 2001 (44 U.S.C. 3516, note) provides for Federal agencies to review most disseminations of information to the public under information quality guidelines established by each agency pursuant to general guidelines issued by OMB. OMB's guidelines were published at 67 FR 8452 (Feb. 22, 2002), and DOE's guidelines were published at67 FR 62446 (Oct. 7, 2002). Pursuant to OMB Memorandum M-19-15, Improving Implementation of the Information Quality Act (April 24, 2019), DOE published updated guidelines which are available at: https://www.energy.gov/cio/department-energy-information-quality-guidelines. DOE has reviewed this proposed rule under the OMB and DOE guidelines and has concluded that it is consistent with applicable policies in those guidelines.

K. Review Under Executive Order 13211

E.O. 13211, “Actions Concerning Regulations That Significantly Affect Energy Supply, Distribution, or Use,”66 FR 28355 (May 22, 2001), requires Federal agencies to prepare and submit to OIRA at OMB, a Statement of Energy Effects for any significant energy action. A “significant energy action” is defined as any action by an agency that promulgates or is expected to lead to promulgation of a final rule, and that: (1) is a significant regulatory action under Executive Order 12866, or any successor order and is likely to have a significant adverse effect on the supply, distribution, or use of energy; or (2) is designated by the Administrator of OIRA as a significant energy action. For any significant energy action, the agency must give a detailed statement of any adverse effects on energy supply, distribution, or use should the proposal be implemented, and of reasonable alternatives to the action and their expected benefits on energy supply, distribution, and use. DOE will assess the need for preparation of a Statement of Energy Effects under E.O. 13211.

L. Review Under the Information Quality Bulletin for Peer Review

On December 16, 2004, OMB, in consultation with the Office of Science and Technology Policy (“OSTP”), issued its Final Information Quality Bulletin for Peer Review (“the Bulletin”). 70 FR 2664 (Jan. 14, 2005). The Bulletin establishes that certain scientific information shall be peer reviewed by qualified specialists before it is disseminated by the Federal Government, including influential scientific information related to agency regulatory actions. The purpose of the Bulletin is to enhance the quality and credibility of the Government's scientific information. Under the Bulletin, the energy conservation standards rulemaking analyses are “influential scientific information,” which the Bulletin defines as “scientific information the agency reasonably can determine will have, or does have, a clear and substantial impact on important public policies or private sector decisions.” 70 FR 2664, 2667.

In response to OMB's Bulletin, DOE conducted formal peer reviews of the energy conservation standards development process and the analyses that are typically used and prepared a report describing that peer review.³ Generation of this report involved a rigorous, formal, and documented evaluation using objective criteria and qualified and independent reviewers to make a judgment as to the technical/scientific/business merit, the actual or anticipated results, and the productivity and management effectiveness of programs and/or projects. Because available data, models, and technological understanding have changed since 2007, DOE has engaged with the National Academy of Sciences to review DOE's analytical methodologies to ascertain whether modifications are needed to improve the Department's analyses. DOE is in the process of evaluating the resulting report.⁴

³ The 2007 “Energy Conservation Standards Rulemaking Peer Review Report” is available at the following website: www.energy.gov/eere/buildings/downloads/energy-conservation-standards-rulemaking-peer-review-report-0 (last accessed July 1, 2022).

⁴ The report is available at www.nationalacademies.org/our-work/review-of-methods-for-setting-building-and-equipment-performance-standards.

M. Review Under Additional Executive Orders and Presidential Memoranda

DOE has examined this proposed rule and has tentatively determined that it is consistent with the policies and directives outlined in E.O. 14154 “Unleashing American Energy,” E.O. 14192, “Unleashing Prosperity Through Deregulation,” and Presidential Memorandum, “Delivering Emergency Price Relief for American Families and Defeating the Cost-of-Living Crisis.” This proposed rule, if finalized as proposed, is expected to be an E.O. 14192 deregulatory action.

III. Public Participation

A. Attendance at the Public Meeting/Webinar

The time and date of the public meeting webinar are listed in the DATES and ADDRESSES sections at the beginning of this document. If you plan to attend the public meeting, please notify the Appliance and Equipment Standards staff at (202) 287-1445 or Appliance_Standards_Public_Meetings@ee.doe.gov.

Webinar registration information, participant instructions, and information about the capabilities available to webinar participants will be published on DOE's website at www.energy.gov/eere/buildings/public-meetings-and-comment-deadlines. Participants are responsible for ensuring their systems are compatible with the webinar software.

B. Procedure for Submitting Prepared General Statements for Distribution

Any person who has plans to present a prepared general statement may request that copies of his or her statement be made available at the public meeting. Such persons may submit requests, along with an advance electronic copy of their statement in PDF (preferred), Microsoft Word or Excel, WordPerfect, or text (ASCII) file format, to the appropriate address shown in the ADDRESSES section at the beginning of this document. The request and advance copy of statements must be received at least one week before the public meeting and are to be emailed. Please include a telephone number to enable DOE staff to make follow-up contact, if needed.

C. Conduct of the Public Meeting Webinar

DOE will designate a DOE official to preside at the public meeting webinar and may also use a professional facilitator to aid discussion. The meeting will not be a judicial or evidentiary-type public hearing, but DOE will conduct it in accordance with section 336 of EPCA. (42 U.S.C. 6306) A court reporter will be present to record the proceedings and prepare a transcript. DOE reserves the right to schedule the order of presentations and to establish the procedures governing the conduct of the public meeting. There shall not be discussion of proprietary information, costs or prices, market share, or other commercial matters regulated by U.S. anti-trust laws. After the public meeting, interested parties may submit further comments on the proceedings, as well as on any aspect of the proposed rulemaking, until the end of the comment period.

The public meeting webinar will be conducted in an informal, conference style. DOE will present a general overview of the topics addressed in this rulemaking, allow time for prepared general statements by participants, and encourage all interested parties to share their views on issues affecting this proposed rulemaking. Each participant will be allowed to make a general statement (within time limits determined by DOE), before the discussion of specific topics. DOE will allow, as time permits, other participants to comment briefly on any general statements.

At the end of all prepared statements on a topic, DOE will permit participants to clarify their statements briefly. Participants should be prepared to answer questions by DOE and by other participants concerning these issues. DOE representatives may also ask questions of participants concerning other matters relevant to this proposed rulemaking. The official conducting the public meeting will accept additional comments or questions from those attending, as time permits. The presiding official will announce any further procedural rules or modification of the previous procedures that may be needed for the proper conduct of the public meeting.

A transcript of the public meeting webinar will be included in the docket, which can be viewed as described in the Docket section at the beginning of this document and will be accessible on the DOE website. In addition, any person may buy a copy of the transcript from the transcribing reporter.

D. Submission of Comments

DOE will accept comments, data, and information regarding this notification of proposed rule no later than the date provided in the DATES section at the beginning of this document. Interested parties may submit comments, data, and other information using any of the methods described in the ADDRESSES section at the beginning of this document.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Otherwise, persons viewing comments will see only first and last names, organization names, correspondence containing comments, and any documents submitted with the comments.

Do not submit to www.regulations.gov information for which disclosure is restricted by statute, such as trade secrets and commercial or financial information (hereinafter referred to as Confidential Business Information (CBI)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email. Comments and documents submitted via email also will be posted to www.regulations.gov. If you do not want your personal contact information to be publicly viewable, do not include it in your comment or any accompanying documents. Instead, provide your contact information in a cover letter. Include your first and last names, email address, telephone number, and optional mailing address. With this instruction followed, the cover letter will not be publicly viewable as long as it does not include any comments.

Include contact information each time you submit comments, data, documents, and other information to DOE. No faxes will be accepted.

Comments, data, and other information submitted to DOE electronically should be provided in PDF (preferred), Microsoft Word or Excel, or text (ASCII) file format. Provide documents that are not secured, that are written in English, and that are free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email two well-marked copies: One copy of the document marked “confidential” including all the information believed to be confidential, and one copy of the document marked “non-confidential” with the information believed to be confidential deleted. DOE will make its own determination about the confidential status of the information and treat it according to its determination.

It is DOE policy that all comments may be included in the public docket, without change and as received, including any personal information provided in the comments (except information deemed to be exempt from public disclosure).

E. Issues on Which DOE Seeks Comments

DOE welcomes comments on all aspects of this proposed rule. DOE is particularly interested in receiving comments and views of interested parties concerning whether rescinding the amended water use standards is supported by the statute.

DOE is also interested in receiving views concerning other relevant issues that participants believe would affect the tentative conclusions presented in this document.

After the expiration of the period for submitting written statements, DOE will consider all comments and additional information that is obtained from interested parties or through further analyses, and it may prepare a final rule rescinding amended water standards for ACIMs.

IV. Approval of the Office of the Secretary

The Secretary of Energy has approved publication of this notice of proposed rulemaking; request for comments.

List of Subjects in 10 CFR Part 431

Administrative practice and procedure, Confidential business information, Energy conservation, Reporting and recordkeeping requirements.

Signing Authority

This document of the Department of Energy was signed on May 9, 2025, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 9, 2025.
Treena V. Garrett,
Federal Register Liaison Officer, U.S. Department of Energy.

For the reasons set forth in the preamble, DOE is proposing to amend part 431 of chapter II, subchapter D, of title 10 of the Code of Federal Regulations, to read as set forth:

PART 431—ENERGY EFFICIENCY PROGRAM FOR CERTAIN COMMERCIAL AND INDUSTRIAL EQUIPMENT

1. The authority citation for part 431 continues to read as follows:

Authority: 42 U.S.C. 6291-6317; 28 U.S.C. 2461 note.

2. Amend § 431.136 by revising paragraphs (b), (c), and (d) to read as follows:

§ 431.136 Energy conservation standards and their effective dates.

* * * * *

(b) Each cube type automatic commercial ice maker with capacities between 50 and 2,500 pounds per 24-hour period manufactured on or after January 1, 2010 shall meet the following standard levels:

Equipment type | Type of cooling | Harvest rate (lb ice/24 hours) | Maximum energy use (kWh/100 lb ice) | Maximum condenser water use ¹ (gal/100 lb ice)
Ice-Making Head | Water | <500 | 7.8-0.0055H ² | 200-0.022H.
Ice-Making Head | Water | ≥500 and <1,436 | 5.58-0.0011H | 200-0.022H.
Ice-Making Head | Water | ≥1,436 | 4.0 | 200-0.022H.
Ice-Making Head | Air | <450 | 10.26-0.0086H | Not Applicable.
Ice-Making Head | Air | ≥450 | 6.89-0.0011H | Not Applicable.
Remote Condensing (but not remote compressor) | Air | <1,000 | 8.85-0.0038H | Not Applicable.
Remote Condensing (but not remote compressor) | Air | ≥1,000 | 5.1 | Not Applicable.
Remote Condensing and Remote Compressor | Air | <934 | 8.85-0.0038H | Not Applicable.
Remote Condensing (but not remote compressor) | Air | ≥934 | 5.3 | Not Applicable.
Self-Contained | Water | <200 | 11.40-0.019H | 191-0.0315H.
Self-Contained | Water | ≥200 | 7.6 | 191-0.0315H.
Self-Contained | Air | <175 | 18.0-0.0469H | Not Applicable.
Self-Contained | Air | ≥175 | 9.8 | Not Applicable.
¹ Water use is for the condenser only and does not include potable water used to make ice.
² H = harvest rate in pounds per 24 hours, indicating the water or energy use for a given harvest rate.

(c) Each batch type automatic commercial ice maker with capacities between 50 and 4,000 pounds per 24-hour period manufactured on or after January 28, 2018, shall meet the following standard levels:

Equipment type | Type of cooling | Harvest rate (lb ice/24 hours) | Maximum energy use kilowatt-hours (kWh)/100 lb ice ¹
Ice-Making Head | Water | <300 | 6.88-0.0055H.
Ice-Making Head | Water | ≥300 and <850 | 5.80-0.00191H.
Ice-Making Head | Water | ≥850 and <1,500 | 4.42-0.00028H.
Ice-Making Head | Water | ≥1,500 and <2,500 | 4.0.
Ice-Making Head | Water | ≥2,500 and <4,000 | 4.0.
Ice-Making Head | Air | <300 | 10-0.01233H.
Ice-Making Head | Air | ≥300 and <800 | 7.05-0.0025H.
Ice-Making Head | Air | ≥800 and <1,500 | 5.55-0.00063H.
Ice-Making Head | Air | ≥1,500 and <4,000 | 4.61.
Remote Condensing (but not remote compressor) | Air | <988 | 7.97-0.00342H.
Remote Condensing (but not remote compressor) | Air | ≥988 and <4,000 | 4.59.
Remote Condensing and Remote Compressor | Air | <930 | 7.97-0.00342H.
Remote Condensing and Remote Compressor | Air | ≥930 and <4,000 | 4.79.
Self-Contained | Water | <200 | 9.5-0.019H.
Self-Contained | Water | ≥200 and <2,500 | 5.7
Self-Contained | Water | ≥2,500 and <4,000 | 5.7.
Self-Contained | Air | <110 | 14.79-0.0469H.
Self-Contained | Air | ≥110 and <200 | 12.42-0.02533H.
Self-Contained | Air | ≥200 and <4,000 | 7.35.
¹ H = harvest rate in pounds per 24 hours, indicating the water or energy use for a given harvest rate. Source: 42 U.S.C. 6313(d).

(d) Each continuous type automatic commercial ice maker with capacities between 50 and 4,000 pounds per 24-hour period manufactured on or after January 28, 2018, shall meet the following standard levels:

Equipment type | Type of cooling | Harvest rate (lb ice/24 hours) | Maximum energy use (kWh/100 lb ice) ¹
Ice-Making Head | Water | <801 | 6.48-0.00267H.
Ice-Making Head | Water | ≥801 and <2,500 | 4.34.
Ice-Making Head | Water | ≥2,500 and <4,000 | 4.34.
Ice-Making Head | Air | <310 | 9.19-0.00629H.
Ice-Making Head | Air | ≥310 and <820 | 8.23-0.0032H.
Ice-Making Head | Air | ≥820 and <4,000 | 5.61.
Remote Condensing (but not remote compressor) | Air | <800 | 9.7-0.0058H.
Remote Condensing (but not remote compressor) | Air | ≥800 and <4,000 | 5.06.
Remote Condensing and Remote Compressor | Air | <800 ≥800 and <4,000 | 9.9-0.0058H. 5.26.
Self-Contained | Water | <900 | 7.6-0.00302H.
Self-Contained | Water | ≥900 and <2,500 | 4.88.
Self-Contained | Water | ≥2,500 and <4,000 | 4.88.
Self-Contained | Air | <200 | 14.22-0.03H.
Self-Contained | Air | ≥200 and <700 | 9.47-0.00624H.
Self-Contained | Air | ≥700 and <4,000 | 5.1.
¹ H = harvest rate in pounds per 24 hours, indicating the water or energy use for a given harvest rate. Source: 42 U.S.C. 6313(d).

[FR Doc. 2025-08576 Filed 5-12-25; 9:30 am]

BILLING CODE 6450-01-P